DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Pacific Islands Region Seabird-Fisheries Side-setting Survey.

Form Number(s): None.

OMB Approval Number: None.

Type of Request: Regular submission.

Burden Hours: 12.

Number of Respondents: 24.

Average Hours Per Response: 30 minutes.

Needs and Uses: The Western Pacific Fishery Management Council is proposing mitigation measures to reduce interactions between seabirds and the Hawaii-based pelagic longline fishery, by requiring longline vessel operators to use either side-setting (setting the longline fishing gear from the side of the vessel rather than the stern) or the current suite of seabird mitigation measures, plus tori lines. Although side-setting shows to be the most promising mitigation technique in terms of effectiveness, additional information is needed.

Vessel operators currently voluntarily side-setting will be asked to provide data on the operational benefits of side-setting as well as the effectiveness of side-setting as a seabird deterrent. This collection of information is intended to provide NMFS with information as to the cost, availability of equipment, and operational use of equipment, required for side-setting. This information will be used to determine whether it is feasible and cost effective for Hawaii longline vessels to convert to side setting, and to formulate specifications for vessels side-setting.

Affected Public: Business or other for-profit organizations; individuals or households.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 30, 2005.
Gwellnar Banks,
Management Analyst, Office of the Chief Information Officer.

[FR Doc. 05-17576 Filed 9-2-05; 8:45 am]

BILLING CODE 3510-22-P